ENVIRONMENTAL PROTECTION AGENCY

[RCRA-02-2024-7301; FRL-11630-01-R2]

Proposed Settlement Agreement Pursuant to RCRA, CERCLA and the Authority of the Attorney General of the United States To Compromise and Settle Claims for the Former SCPC Facility, St. Croix, United States Virgin Islands

AGENCY: Environmental Protection Agency.

ACTION: Notice and request for public comment.

SUMMARY: In accordance with the Solid Waste Disposal Act, as amended (commonly referred to as RCRA), and the Comprehensive Environmental Response, Compensation, and Liability Act (“CERCLA”), notice is hereby given by the U.S. Environmental Protection Agency (“EPA”), Region 2, of a proposed settlement agreement (“Settlement”) pursuant to RCRA and CERCLA with St. Croix Petrochemical Corporation (“SCPC”) (“Settling Party”) related to the former SCPC manufacturing facility that operated in the past on a portion of the former HOVENSA refinery (“SCPC Facility”) in St. Croix, United States Virgin Islands (“USVI”).

DATES: Comments must be submitted on or before February 21, 2024.

ADDRESSES: Reviewing Proposed Settlement: The proposed Settlement can be viewed online at https://www.epa.gov/ny/proposed-settlement-agreement-former-scpc-facility-st-croix-united-states-virgin-islands. A copy of the proposed Settlement may also be obtained from the EPA contact person identified below. Submission of comments must be via electronic mail to vargas.ricardito@epa.gov. Comments should reference the SCPC Settlement, St. Croix, USVI, Index No. RCRA-02-2024-7301. For those unable to communicate via electronic mail please contact the EPA employee identified below.

FOR FURTHER INFORMATION CONTACT: Ricardito Vargas, Land and Redevelopment Programs Branch, Region 2, U.S. Environmental Protection Agency, 290 Broadway, 25th Floor, New York, NY 10007-1866. Email: vargas.ricardito@epa.gov. Telephone: 212-637-3703.

SUPPLEMENTARY INFORMATION: This Settlement would resolve the liability of SCPC for soil and groundwater contamination related to its former para-xylene manufacturing facility, a 20-acre portion of the former HOVENSA refinery in St. Croix. This Settlement would be contemporaneously finalized and become effective with a companion settlement between SCPC and the Hovensa Environmental Response Trust (“ERT”). The ERT was established during the HOVENSA, LLC bankruptcy proceedings, to, among other things, implement RCRA corrective measures at the former HOVENSA facility. Under both settlement agreements, SCPC would transfer its remaining assets of approximately $1.7 million to the ERT to help fund remediation of contamination caused by SCPC at the former HOVENSA facility. This payment would be made within 60 days of the Effective Date of the Settlement. The Settlement includes a covenant by EPA not to sue SCPC under sections 3013 and 7003 of RCRA and sections 106 and 107(a) of CERCLA regarding the SCPC Facility, contingent upon SCPC transferring its remaining assets to the ERT. For thirty (30) days following the date of publication of this notice, EPA will receive written comments relating to the Settlement. EPA and the United States Department of Justice will consider all comments received and may modify or withdraw consent to the Settlement if comments received disclose facts or considerations that indicate that the proposed Settlement is inappropriate, improper, or inadequate. The response to any comments can be viewed online at https://www.epa.gov/ny/proposed-settlement-agreement-former-scpc-facility-st-croix-united-states-virgin-islands. A copy of the response to comments may be obtained from the EPA contact person identified above. Commenters may request an opportunity for a public meeting in the affected area in accordance with section 7003(d) of RCRA, 42 U.S.C. 6973(d).

Alyssa Arcaya,
Deputy Regional Administrator, Region 2, Environmental Protection Agency.

[FR Doc. 2024-01111 Filed 1-19-24; 8:45 am]

BILLING CODE 6560-50-P